FEDERAL RESERVE SYSTEM

Agency Information Collection Activities: Announcement of Board Approval under Delegated Authority and Submission to OMB

AGENCY: Board of Governors of the Federal Reserve System.

SUMMARY: The Board of Governors of the Federal Reserve System (Board) is adopting a proposal to extend for three years, with revision, the Margin Credit Reports (FR G-1, FR G-2, FR G-3, FR G-4, FR T-4, and FR U-1; OMB No. 7100-0011).

DATES: The revisions are applicable as of June 28, 2024.

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/home/review or may be requested from the agency clearance officer, whose name appears above. On the page displayed at the link above, you can find the supporting information by referencing the collection identifier, FR G-1, FR G-2, FR G-3, FR G-4, FR T-4, or FR U-1.

Final Approval Under OMB Delegated Authority of the Extension for Three Years, With Revision, of the Following Information Collection

Collection title: Margin Credit Reports.

Collection identifier: FR G-1, FR G-2, FR G-3, FR G-4, FR T-4, and FR U-1.

OMB control number: 7100-0011.

General description of collection: The Margin Credit Reports is comprised of the following six reports: Registration Statement for Persons Who Extend Credit Secured by Margin Stock (Other Than Banks, Brokers, or Dealers) (FR G-1), Deregistration Statement for Persons Registered Pursuant to Regulation U (FR G-2), Statement of Purpose for an Extension of Credit Secured by Margin Stock by a Person Subject to Registration Under Regulation U (FR G-3), Annual Report (FR G-4), Statement of Purpose for an Extension of Credit by a Creditor (FR T-4), and Statement of Purpose for an Extension of Credit Secured by Margin Stock (FR U-1). These reports relate to extensions of credit secured by margin stock. The Board collects the information gathered by the Margin Credit Reports so that it may meet certain obligations under the Securities Exchange Act of 1934.

Certain lenders that are not brokers, dealers, or banks making loans secured by margin stock must register and deregister with the Federal Reserve using the FR G-1 and FR G-2, respectively, and must file an annual report (FR G-4) while registered. The FR G-1, FR G-2, and FR G-4 reporting requirements collect data used to identify lenders subject to the Board's Regulation U to verify their compliance with the regulation and to monitor margin credit.

The FR T-4, FR U-1, and FR G-3 are forms that implement recordkeeping requirements for brokers and dealers, banks, and other lenders, respectively. The FR T-4 documents the purpose of credit being extended when that credit is not to purchase, carry, or trade in securities and the credit is in excess of that otherwise permitted under Regulation T. The FR G-3 and FR U-1 document the purpose of loans secured by margin stock.

Frequency: The FR G-1, FR G-2, FR G-3, FR T-4, and FR U-1 are event-generated; the FR G-4 is completed annually.

Respondents: The FR G-1, FR G-2, FR G-3, and FR G-4 panels comprise lenders, other than banks, brokers, or dealers, that extend margin credit, including federal and state credit unions; insurance companies; commercial and consumer credit organizations; production credit associations; small businesses; insurance premium funding plans; plan-lenders (a company or its affiliate that extends credit to employees to purchase company stock under an eligible employee stock option or stock purchase plan); and lenders to Employee Stock Ownership Plans (ESOPs), thrift plans, and broker-dealer affiliates. The FR T-4 panel comprises brokers and dealers and the FR U-1 panel comprises banks.

Total estimated number of respondents: FR G-1, 25; FR G-2, 12; FR G-3, 10; FR G-4, 129; FR T-4, 14; FR U-1, 14.

Estimated average hours per response: FR G-1, 1.65; FR G-2, 0.53; FR G-3, 0.25; FR G-4, 2.07; FR T-4, 0.25; FR U-1, 0.25.

Total estimated annual burden hours: 697.

Current actions: On February 16, 2024, the Board published a notice in the Federal Register (89 FR 12342) requesting public comment for 60 days on the extension, with revision, of the FR G-1, FR G-2, FR G-3, FR G-4, FR T-4, and FR U-1. The Board revised the FR G-1 and FR G-4 by updating the confidentiality treatment as contained in the reporting instructions to state that individual respondents may request that information submitted to the Board through the FR G-1 and FR G-4 be kept confidential and the Board will evaluate whether such treatment is appropriate on a case-by-case basis. The comment period for this notice expired on April 16, 2024. The Board did not receive any comments.

Board of Governors of the Federal Reserve System, June 25, 2024.
Benjamin W. McDonough,
Deputy Secretary and Ombuds of the Board.

[FR Doc. 2024-14341 Filed 6-27-24; 8:45 am]

BILLING CODE 6210-01-P